FEDERAL MARITIME COMMISSION

Ocean Transportation Intermediary License; Reissuances

Notice is hereby given that the following Ocean Transportation Intermediary licenses have been reissued by the Federal Maritime Commission pursuant to section 19 of the Shipping Act of 1984, as amended by the Ocean-Shipping Reform Act of 1998 (46 U.S.C. app. 1718) and the regulations of the Commission pertaining to the licensing of Ocean Transportation Intermediaries, 46 CFR part 515.

License No. | Name/Address | Date Reissued
3459F | Cross Ocean International, Inc., 10101 S. Roberts Road, Suite 200, Palos Hills, IL 60465 | November 3, 2002.
2638F | Intercorp Forwarders, Ltd., 3534 84th Street, Unit B-7, Jackson Heights, NY 11372 | August 15, 2002.
4306N | International Transport Services, Inc., 18747 Sheldon Road, Cleveland, OH 44130 | November 3, 2002.
16281 | Pan Asia Line Corporation, 820 So. Garfield Avenue, #303, Alhambra, CA 91801. | October 23, 2002.
3478F | Sextant Overseas Shipping Corp., P.O. Box 126, Enid Road, Summit, NY 12175 | June 19, 2002.
15605N | Solid Trans Inc., 5146 W. 104th Street, Inglewood, CA 90304 | June 30, 2002.

Dated: December 20, 2002.
Sandra L. Kusumoto,
Director, , Bureau of Consumer Complaints and Licensing.

[FR Doc. 02-32580 Filed 12-24-02; 8:45 am]

BILLING CODE 6730-01-P